DEPARTMENT OF HEALTH AND HUMAN SERVICES

Centers for Medicare & Medicaid Services

[CMS-2200-N4]

Medicare Program; Meeting of the State Pharmaceutical Assistance Transition Commission—October 14, 2004

AGENCY: Centers for Medicare & Medicaid Services (CMS), HHS.

ACTION: Notice of meeting.

SUMMARY: This notice announces a public meeting of the State Pharmaceutical Assistance Transition Commission (SPATC). Notice of this meeting is given under the Federal Advisory Committee Act (5 U.S.C. App. 2, section 10(a)(1) and (a)(2)). The SPATC will develop a proposal for addressing the unique transitional issues facing State Pharmaceutical Assistance Programs (SPAPs) and SPAP participants due to the implementation of the voluntary prescription drug benefit program under Part D of title XVIII of the Social Security Act. This notice also announces the appointment of an additional member to serve on the SPATC. This individual is Dennis R. O'Dell, Corporate Vice President, Health Services, Walgreen CO, Deerfield, IL.

DATES: The Meeting: October 14, 2004, 9 a.m. to 5 p.m. e.d.s.t.

Deadline for Comments: October 6, 2004.

Special Accommodations: Persons attending the meeting who are hearing or visually impaired, or have a condition that requires special assistance or accommodations, are asked to notify the Executive Secretary by October 6, 2004 (see FOR FURTHER INFORMATION CONTACT.)

ADDRESSES: The Meeting: The meeting will be held at the following address: Holiday Inn, WASHINGTON-ON THE HILL, 415 New Jersey Avenue, NW., Washington, DC 20001, United States, Toll-Free 1-800-638-1116, Telephone: 1-202-638-1616, Fax: 1-202-638-0707.

Comments: Submit written comments to Marge Watchorn, Executive Secretary, Center for Medicaid and State Operations, Centers for Medicare & Medicaid Services, 7500 Security Boulevard, Mail Stop S2-01-16, Baltimore, MD 21244.

Registration: Registration for members of the public is optional for this meeting. If you choose to register, please go to http://www.cms.hhs.gov/events/ and follow the instructions on the Web site.

Web site: You may access up-to-date information on this meeting at http://www.cms.hhs.gov/faca/spatc/details.asp.

Hotline: You may also access up-to-date information on this meeting on the CMS Advisory Committee Information Hotline, 1-877-449-5659 (toll free) or in the Baltimore area (410) 786-9379.

FOR FURTHER INFORMATION CONTACT: Marge Watchorn, Executive Secretary, 410-786-4361. Mary Kahn, Press Inquiries, 202-690-6145.

SUPPLEMENTARY INFORMATION: On February 27, 2004, we published a notice (69 FR 9326) requesting nominations for individuals to serve on the State Pharmaceutical Assistance Transition Commission (SPATC). On March 5, 2004, we published a notice (69 FR 10455) announcing the establishment of the SPATC and the signing by the Secretary on March 1, 2004 of the charter establishing the SPATC. On June 18, 2004, we published a notice (69 FR 34169) announcing the first meeting of the SPATC, held on July 7, 2004, and the appointment of 23 individuals to serve as members of the SPATC. This notice announces the second public meeting of the SPATC. This notice also announces the appointment of an additional individual who will serve on the SPATC. This individual is Dennis O'Dell, Corporate Vice President, Health Services, Walgreen CO, Deerfield, IL.

SPATC Members: Joan Henneberry (Chairperson), Clifford Barnes, Donna Boswell, James Chase, David Clark, Jay Currie, Barbara Edwards, Nora Dowd Eisenhower, Janice Faiks, Karen Greenrose, Dr. Dewey Garner, Laurie Hines, Mary Liveratti, Dr. Anne Marie Murphy, Julie Naglieri, Dennis O'Dell, Robert Power, Susan Reinhard, Sybil Richard, Elizabeth Rohn-Nelson, Marc Ryan, Linda Schofield, and Martin Schuh.

Topics of the Meeting: The Commission was chartered to address the transitional issues facing SPAPs and SPAP participants due to the implementation of the voluntary prescription drug benefit program under Part D of title XVIII of the Act. The Commission will present findings from research conducted since the last public meeting held on July 7, 2004.

Procedure and Agenda: This meeting is open to the public. Registration for members of the public is optional. However, advance registration will ensure that we are able to accommodate all members of the public. If you choose to register, please go to the website listed under ADDRESSES above.

The Commission will spend the majority of the meeting presenting their findings as a result of research and deliberations regarding the transitional issues facings SPAPs. After the Commission presents its findings, members of the public will have an opportunity to address the Commission regarding these issues.

Authority: 5 U.S.C. App. 2, section 10(a)(1) and (a)(2). (Catalog of Federal Domestic Assistance Program No. 93.774, Medicare—Supplementary Medical Insurance Program)

Dated: September 10, 2004.
Mark B. McClellan,
Administrator, Centers for Medicare & Medicaid Services.

[FR Doc. 04-21195 Filed 9-23-04; 8:45 am]

BILLING CODE 4120-01-P